DEPARTMENT OF LABOR

Mine Safety and Health Administration

Petitions for Modification

AGENCY: Mine Safety and Health Administration, Labor.

ACTION: Notice of petitions for modification of existing mandatory safety standards.

SUMMARY: Section 101(c) of the Federal Mine Safety and Health Act of 1977 and 30 CFR part 44 govern the application, processing, and disposition of petitions for modification. This notice is a summary of petitions for modification filed by the parties listed below to modify the application of existing mandatory safety standards published in Title 30 of the Code of Federal Regulations.

DATES: All comments on the petitions must be received by the Office of Standards, Regulations and Variances on or before August 14, 2009.

ADDRESSES: You may submit your comments, identified by “docket number” on the subject line, by any of the following methods:

1. Electronic Mail: Standards-Petitions@dol.gov.

2. Facsimile: 1-202-693-9441.

3. Regular Mail: MSHA, Office of Standards, Regulations and Variances, 1100 Wilson Boulevard, Room 2350, Arlington, Virginia 22209, Attention: Patricia W. Silvey, Director, Office of Standards, Regulations and Variances.

4. Hand-Delivery or Courier: MSHA, Office of Standards, Regulations and Variances, 1100 Wilson Boulevard, Room 2350, Arlington, Virginia 22209, Attention: Patricia W. Silvey, Director, Office of Standards, Regulations and Variances.

MSHA will consider only comments postmarked by the U.S. Postal Service or proof of delivery from another delivery service such as UPS or Federal Express on or before the deadline for comments. Individuals who submit comments by hand-delivery are required to check in at the receptionist desk on the 21st floor.

Individuals may inspect copies of the petitions and comments during normal business hours at the address listed above.

FOR FURTHER INFORMATION CONTACT: Barbara Barron, Office of Standards, Regulations and Variances at 202-693-9447 (Voice), barron.barbara@dol.gov (E-mail), or 202-693-9441 (Telefax). [These are not toll-free numbers.]

SUPPLEMENTARY INFORMATION:

I. Background

Section 101(c) of the Federal Mine Safety and Health Act of 1977 (Mine Act) allows the mine operator or representative of miners to file a petition to modify the application of any mandatory safety standard to a coal or other mine if the Secretary determines that: (1) An alternative method of achieving the result of such standard exists which will at all times guarantee no less than the same measure of protection afforded the miners of such mine by such standard; or (2) that the application of such standard to such mine will result in a diminution of safety to the miners in such mine. In addition, the regulations at 30 CFR 44.10 and 44.11 establish the requirements and procedures for filing petitions for modification.

II. Petitions for Modification

Docket Number: M-2009-015-C.

Petitioner: UtahAmerican Energy, Inc., P.O. Box 910, East Carbon, Utah 84520.

Mine: Lila Canyon Mine, MSHA I.D. No. 42-02241, located in Emery County, Utah.

Regulation Affected: 30 CFR 75.350(a) (Belt air course ventilation).

Modification Request: The petitioner requests site specific relief from application of the existing standard to permit the use of return air in the belt air course. The petitioner states that: (a) Relief from the standard will only be in effect during the underground development process, to establish a ventilation breakout to the surface; and (b) relief from the standard will only be applicable to the underground “Rock Slope” area and will terminate upon establishing the ventilation breakout in the coal seam to the surface. The petitioner proposes to: (1) Install an atmospheric monitoring system (AMS) incorporating diesel discriminating (carbon monoxide and nitric oxide) sensors for early warning fire detection in the primary escapeway (intake) entry and the belt entry; (2) have the air in the monitoring entry(s) at a velocity of at least 50 feet per minute and have definite and distinct movement in the designated direction. The velocity measurements will be determined at locations in the entry which are representative of the cross-sectional areas found through the entry and not at locations where the entry is abnormally high (e.g. belt drives) or low (e.g. under overcasts); (3) determine the correct carbon monoxide ambient, alert, and alarm levels upon implementation of this site specific petition with the carbon monoxide ambient level at 5 ppm, and the alert and alarm levels at 10 ppm and 15 ppm respectively above the ambient; (4) incorporate time delays in the AMS, when a demonstrated need exists, to account for non-fire related carbon monoxide alert and alarm sensor signals; with time delays limited to three minutes. The length of any time delays or other techniques or methods that eliminate or reduce the need for time delays will be specified and approved in the mine ventilation plan; (5) the AMS will activate an alarm signal if the total concentration on uncorrected carbon monoxide measured by any sensor exceeds or is equal to 50 ppm. The concentration will represent all the carbon monoxide present in the sensor's atmosphere which includes carbon monoxide from diesel engines; (6) the methane monitoring system will be capable of providing both audible and visual signals on both the working section and at a manned location on the surface of the mine where personnel will be on duty at all times when miners are underground. When the methane level is 1.0 volume per centum, the monitoring system will initiate alarm signals; (7) design and install the methane monitoring system to de-energize the belt conveyor drive units when the methane level is 1.0 volume per centum. A trained person at the surface location will have two-way communication with the working section; (8) an AMS will be operating and a designated AMS operator will be on duty at a location on the surface of the mine where audible and visual signals from the AMS will be seen or heard and the AMS operator can promptly respond to these signals, whenever personnel are underground; (9) provide visual and audible signals at the designated surface location for any interruption of circuit continuity and any electrical malfunction of the system and have the signals at a sufficient magnitude to be seen or heard by the AMS operator; (10) provide sensors to detect carbon monoxide, nitric oxide, or methane that will be visually examined at least once each shift when belts are operated as part of a production shift; and (11) when a malfunction, alert, or alarm signal is received at the designated surface, the sensor(s) that are activated will be identified and the AMS operator will promptly notify appropriate personnel, including the “responsible person(s)” as referenced in 30 CFR 75.1501 on the affected working section(s) and in the affected areas where mechanized mining equipment is being installed or removed. In addition, an immediate investigation of the cause of the signal shall begin and the required actions set forth in this site specific petition will be taken. Persons may review a complete description of the petitioner's alternative procedures at the MSHA address listed in this notice. The petitioner asserts that the proposed alternative method will at all times guarantee no less than the same measure of protection afforded the miners by the existing standard.

Docket Number: M-2009-016-C.

Petitioner: RoxCoal, Inc., 1576 Stoystown Road, P.O. Box 149, Friedens, Pennsylvania 15541.

Mine: Augustus Mine, MSHA I.D. No. 36-08636; Geronimo Mine, MSHA I.D. No. 36-08645; Horning Mine, MSHA I.D. No. 36-09666; Kimberly Run Mine, MSHA I.D. No. 36-09549; Miller Mine, MSHA I.D. No. 36-08622; Quecreek #1 Mine, MSHA I.D. No. 36-08746; Roytown Mine, MSHA I.D. No. 36-09260, all located in Somerset County, Pennsylvania.

Regulation Affected: 30 CFR 75.500(d) (Permissible electric equipment).

Modification Request: The petitioner requests a modification of the existing standard to permit the use of battery-powered non-permissible surveying equipment in or inby the last crosscut. The petitioner states that: (1) All non-permissible electronic surveying equipment used in or inby the last open crosscut will be examined prior to use to ensure the equipment is being maintained in a safe operating condition; (2) the equipment will be examined by a qualified person at intervals not to exceed 7 days; (3) results of the examinations will be recorded in the weekly examination electrical equipment book. The examinations will include: (i) Checking the instrument for any physical damage and the integrity of the case; (ii) removing the battery and inspecting for corrosion; (iii) inspecting the contact points to ensure a secure connection to the battery; (iv) reinserting the battery and powering up and shutting down to ensure proper connections; and (v) checking the battery compartment cover to ensure that it is securely fastened; (4) a qualified person will continuously monitor for methane immediately before and during the use of non-permissible surveying equipment in or inby the last open crosscut or in the return; (5) non-permissible surveying equipment will not be used if methane is detected in concentrations at or above 1.0 percent methane; (6) when 1.0 percent or more of methane is detected while the equipment is being used, the equipment will be de-energized immediately and will be withdrawn outby the last open crosscut; (7) non-permissible surveying equipment will not be used where float coal dust is in suspension; (8) batteries contained in the surveying equipment will be changed out or charged in fresh air outby the last open crosscut; (9) qualified personnel engaged in the use of surveying equipment will be properly trained to recognize the hazards and limitations associated with the use of surveying equipment. The equipment will not be put into service initially until MSHA has inspected the equipment and determined that it is in compliance with all of the above terms and conditions; and (10) within 60 days after the Proposed Decision and Order becomes final, the petitioner will submit to the District Manager proposed revisions for its part 48 training plan. The training plan will specify initial and refresher training. The petitioner asserts that application of the existing standard will result in a diminution of safety to the miners and the proposed alternative method will at all times guarantee no less than the same measure of protection afforded the miners by the standard.

Docket Number: M-2009-017-C.

Petitioner: RoxCoal, Inc., 1576 Stoystown Road, P.O. Box 149, Friedens, Pennsylvania 15541.

Mine: Augustus Mine, MSHA I.D. No. 36-08636; Geronimo Mine, MSHA I.D. No. 36-08645; Horning Mine, MSHA I.D. No. 36-09666; Kimberly Run Mine, MSHA I.D. No. 36-09549; Miller Mine, MSHA I.D. No. 36-08622; Quecreek #1 Mine, MSHA I.D. No. 36-08746; Roytown Mine, MSHA I.D. No. 36-09260, all located in Somerset County, Pennsylvania.

Regulation Affected: 30 CFR 75.507-1(a) (Electric equipment other than power-connection points; outby the last open crosscut; return air; permissibility requirements; equipment)

Modification Request: The petitioner requests a modification of the existing standard to permit the use of battery-powered non-permissible surveying equipment in return airways, including, but not limited to portable battery operated mine transits, total station surveying equipment, distance meters, and lap top computers. The petitioner states that: (1) All non-permissible electronic surveying equipment used in or inby the last open crosscut will be examined prior to use to ensure the equipment is being maintained in a safe operating condition; (2) the equipment will be examined by a qualified person at intervals not to exceed 7 days; (3) results of the examinations will be recorded in the weekly examination electrical equipment book. The examinations will include: (i) Checking the instrument for any physical damage and the integrity of the case; (ii) removing the battery and inspecting for corrosion; (iii) inspecting the contact points to ensure a secure connection to the battery; (iv) reinserting the battery and powering up and shutting down to ensure proper connections; and (v) checking the battery compartment cover to ensure that it is securely fastened; (4) a qualified person will continuously monitor for methane immediately before and during the use of non-permissible surveying equipment in or inby the last open crosscut or in the return; (5) non-permissible surveying equipment will not be used if methane is detected in concentrations at or above 1.0 percent methane; (6) when 1.0 percent or more of methane is detected while the equipment is being used, the equipment will be de-energized immediately and will be withdrawn out of the return; (7) non-permissible surveying equipment will not be used where float coal dust is in suspension; (8) batteries contained in the surveying equipment will be changed out or charged in fresh air out of the return; (9) qualified personnel engaged in the use of surveying equipment will be properly trained to recognize the hazards and limitations associated with the use of surveying equipment. The equipment will not be put into service initially until MSHA has inspected the equipment and determined that it is in compliance with all of the above terms and conditions; and (10) within 60 days after the Proposed Decision and Order becomes final, the petitioner will submit to the District Manager proposed revisions for its part 48 training plan. The training plan will specify initial and refresher training. The petitioner asserts that application of the existing standard will result in a diminution of safety to the miners and the proposed alternative method will at all times guarantee no less than the same measure of protection afforded the miners by the standard.

Docket Number: M-2009-018-C.

Petitioner: R & K Coal Company, Inc., 642 Suedberg Road, Pine Grove, Pennsylvania 17963.

Mine: No. 1 Slope Mine, MSHA I.D. No. 36-09138, located in Daupin County, Pennsylvania.

Regulation Affected: 30 CFR 75.1200(d) & (i) (Mine map).

Modification Request: The petitioner requests a modification of the existing standard to permit the use of cross-sections instead of contour lines through the intake slope at locations of rock tunnel connections between veins, and at 1,000-foot intervals of advance from the intake slope. In addition, the petitioner proposes to limit the required mapping of the mine workings above and below to those present within 100 feet of the veins being mined, except when these veins are interconnected to other veins beyond the 100-foot limit, through rock tunnels. The petitioner states that: (1) Contour lines provide no useful information due to the steep pitch encountered in mining anthracite coal veins, and their presence would make portions of the map illegible; (2) use of cross-sections in lieu of contour lines has been practiced since the late 1800's and provide critical information about the spacing between veins and the proximity to other mine workings, which fluctuate considerably; (3) the mine workings above and below are usually inactive and abandoned, and therefore not subject to changes during the life of the mine; (4) all mapping for mines above and below is researched by petitioner's contract engineer for the presence of interconnecting rock tunnels between veins in relation to the mine; and (5) a hazard analysis is done when mapping indicates that prior mining was conducted on a vein above or below. When research exhausts the availability of mine mapping, the vein will be considered to be mined and flooded and appropriate precautions will be taken under 30 CFR 75.388, where possible. The petitioner further states that where potential hazards exist and in-mine drilling capabilities limit penetration, surface boreholes will be drilled to intercept the mine workings and results will be analyzed prior to mining in the affected area. The petitioner asserts that the proposed alternative method will provide at least the same measure of protection as the existing standard.

Docket Number: M-2009-019-C.

Petitioner: Sidney Coal Co., Inc., d/b/a Process Energy Mining Coo., 115 North Big Creek Road, P.O. Box 299, Sidney, Kentucky 41564.

Mine: Mine No. 1, MSHA I.D. No. 15-19097, located in Pike County, Kentucky.

Regulation Affected: 30 CFR 75.380(d)(3) (Escapeways; bituminous and lignite mines).

Modification Request: The petitioner requests a modification of the existing standard to permit a primary escapeway over an overcast for the limited distance of 24 feet. The petitioner proposes to have a minimum of 36 inches of clearance above the location of the overcast instead of the minimum of 51-½ inches. The areas of the primary escapeway leading up to and away from the proposed overcast will have a minimum height of 6 feet. Ramps will be provided on the inby and outby sides of the overcast to provide easy access to the top of the overcast. A wheeled dolly, suitable to place a stretcher carrying a disabled miner, will be located on top of the overcast at all times. The dolly will be used to transport a disabled miner from the inby side of the top of the overcast to the outby side of the top of the overcast, a distance of approximately 24 feet, which leads to the mechanically operated escape capsule. The petitioner asserts that the proposed alternative method will at all times guarantee no less than the same measure of protection afforded the miners by the standard.

Docket Number: M-2009-004-M.

Petitioner: Arch Materials, LLC, 4438 State Route 276, Batavia, Ohio 45103.

Mine: Batavia Mine, MSHA I.D. No. 33-04578, located in Clermont County, Ohio.

Regulation Affected: 30 CFR 49.2(c) (Availability of mine rescue teams).

Modification Request: The petitioner requests a modification of the existing standard to permit the services of Central Kentucky Mine Rescue Team (CKMRT) as the mine rescue provider for the Batavia Mine. The petitioner states that: (1) The CKMRT, also known as Eastwood Fire District Fire Fighting and Rescue Team is located in Eastwood, Kentucky within the required travel distance proposed by MSHA; (2) the rescue team consists of professional firefighters, and several career miners, who have had experience in underground mines; (3) the rescue team has extensive mine training in accordance with 30 CFR 49.8, not limited to, firefighting, evacuation, and rescue; and (4) the team is on duty 24 hours per day, seven days per week, and will be able to provide immediate response to any mine emergency. The petitioner further states that the Central Kentucky Mine Rescue Team has worked closely with the Arch Materials, LLC, and are prepared for the conditions of the Batavia Mine. The team has traveled to the Batavia Mine and observed the mine facility and operations. The petitioner asserts that the proposed alternative method will not reduce the safety of the miners at the Batavia Mine, but will increase the safety of the miners, and that the proposed alternative method is adequate and will properly cover Batavia Mine in the event of an emergency.

Patricia W. Silvey,
Director, Office of Standards, Regulations and Variances.

[FR Doc. E9-16741 Filed 7-14-09; 8:45 am]

BILLING CODE 4510-43-P